DEPARTMENT OF THE INTERIOR

Bureau of Indian Affairs

Colorado River Irrigation Project—Irrigation Division, Arizona, Irrigation Rate Adjustment

AGENCY: Bureau of Indian Affairs, Interior.

ACTION: Final notice of rate adjustment.

SUMMARY: The Bureau of Indian Affairs (BIA) is adjusting irrigation rates for customers of Colorado River Irrigation Project, Irrigation Division, for the 2001 irrigation season. The Notice of Proposed Rate Adjustment was published in the Federal Register on October 5, 2000 (65 FR 59461). The public and interested parties were provided an opportunity to submit written comments during the 60-day period subsequent to October 5, 2000. No comments were received.

EFFECTIVE DATE: The new rates for the 2001 irrigation season are effective on January 12, 2001.

FOR FURTHER INFORMATION CONTACT: Regional Director, Bureau of Indian Affairs, Western Region, P.O. Box 10, Phoenix, Arizona 85001, Telephone (602) 379-6956.

SUPPLEMENTARY INFORMATION: The authority to issue this document is vested in the Secretary of the Interior by 5 U.S.C. 301; the Act of August 14, 1914 (38 Stat. 583; 25 U.S.C. 385). The Secretary has delegated this authority to the Assistant Secretary—Indian Affairs pursuant to part 209 Departmental Manual, Chapter 8.1A and memorandum dated January 25, 1994, from Chief of Staff, Department of the Interior, to Assistant Secretaries, and Heads of Bureaus and Offices.

The new rates are specified in the following schedule.

Irrigation Rate Per Assessable Acre—2001 Irrigation Season

1. When Does This Schedule Apply to Me?

This schedule applies to you if you irrigate lands within the CRIP/ID for the 2001 irrigation season.

2. What Will BIA Charge for the 2001 Irrigation Season?

The following table shows how we will bill you.

For * * * | We will bill you * * *
(1) Zero to 5 acre-feet/acre | $37.00 per assessable acre.
(2) Excess Water above 5 acre-feet | $17.00 per acre foot.

Regulatory Planning and Review (E.O. 12866): This rate adjustment is not a significant regulatory action and has been reviewed by the Office of Management and Budget under Executive Order 12866.

Regulatory Flexibility Act: This rate making is not a rule for the purposes of the Regulatory Flexibility Act because it is “a rule of particular applicability relating to rates.” 5 U.S.C. 601(2).

Unfunded Mandates Reform Act of 1995: This rate adjustment imposes no unfunded mandates on any governmental or private entity and is in compliance with the provisions of the Unfunded Mandates Reform Act of 1995.

Takings (E.O. 12630): The Department has determined that this rate adjustment does not have significant “takings” implications.

Federalism (E.O. 13132): The Department has determined that this rate adjustment does not have significant Federalism effects because it pertains solely to Federal-tribal relations and will not interfere with the roles, rights, and responsibilities of states.

Civil Justice Reform (E.O. 12988): In accordance with Executive Order 12988, the Office of the Solicitor has determined that this rule does not unduly burden the judicial system and meets the requirements of sections 3(a) and 3(b)(2) of the Order.

Paperwork Reduction Act of 1995: This rate adjustment does not contain collections of information requiring approval under the Paperwork Reduction Act of 1995.

NEPA Compliance: The Department has determined that this rate adjustment does not constitute a major Federal action significantly affecting the quality of the human environment and that no detailed statement is required under the National Environmental Policy Act of 1969.

Dated: December 20, 2000.
Kevin Gover,
Assistant Secretary—Indian Affairs.

[FR Doc. 01-1041 Filed 1-11-01; 8:45 am]

BILLING CODE 4310-02-P